DEPARTMENT OF HEALTH AND HUMAN SERVICES

National Institutes of Health

Specification for Postal Security Devices and Indicia (Postmarks); Correction

AGENCY: National Institutes of Health, Department of Health and Human Services.

ACTION: Notice; correction.

SUMMARY: The Department of Health and Human Services, National Institutes of Health published a document in the Federal Register on October 2, 2017, contemplating the modification of grant of an Exclusive Patent License to EncepHeal Therapeutics, Inc., located in Winston-Salem, North Carolina, to practice the inventions embodied in the patent applications listed in the Supplementary Information section of this notice. The document contained an incorrect date of signature.

FOR FURTHER INFORMATION CONTACT: Richard Rodriguez, 240-276-6661.

Correction

In the Federal Register of October 2, 2017, in FR Doc. 2017-21048, on page 45866, in the second column, correct the “Dated: September 22, 2107” caption to read: “Dated: September 22, 2017”.

Dated: October 3, 2017.
Richard U. Rodriguez,
Associate Director, Technology Transfer Center, National Cancer Institute.

[FR Doc. 2017-21689 Filed 10-6-17; 8:45 am]

BILLING CODE 4140-01-P